DEPARTMENT OF HEALTH AND HUMAN SERVICES

Food and Drug Administration

[Docket No. FDA-2008-N-0578]

Pediatric Ethics Subcommittee; Amendment of Notice

AGENCY: Food and Drug Administration, HHS.

ACTION: Notice.

The Food and Drug Administration (FDA) is announcing an amendment to the notice of meeting of the Pediatric Ethics Subcommittee of the Pediatric Advisory Committee. This meeting was announced in the Federal Register of November 14, 2008 (73 FR 67525). The amendment is being made to reflect a change in the Procedure portion of the document. There are no other changes.

FOR FURTHER INFORMATION CONTACT: Carlos Peña, Office of Science and Health Coordination, Office of the Commissioner (HF-33), Food and Drug Administration, 5600 Fishers Lane, Rockville, MD 20857, 301-827-3340, e-mail: carlos.peña@fda.hhs.gov, or FDA Advisory Committee Information Line, 1-800-741-8138 (301-443-0572 in the Washington, DC area), code 8732310001. Please call the Information Line for up-to-date information on this meeting.

SUPPLEMENTARY INFORMATION: In the Federal Register of November 14, 2008, FDA announced that a meeting of the Pediatric Ethics Subcommittee of the Pediatric Advisory Committee would be held on December 9, 2008. On page 67525, in the third column, the third sentence of the Procedure portion of the document is changed to read as follows:

Oral presentations from the public will be scheduled between approximately 11 a.m. to 12 noon on December 9, 2008.

This notice is issued under the Federal Advisory Committee Act (5 U.S.C. app. 2) and 21 CFR part 14, relating to the advisory committees.

Dated: November 21, 2008.
Randall W. Lutter,
Deputy Commissioner for Policy.

[FR Doc. E8-28382 Filed 11-26-08; 8:45 am]

BILLING CODE 4160-01-S